DEPARTMENT OF DEFENSE

Department of the Navy

Notice of Intent To Grant Partially Exclusive Patent License; Lumedyne Technologies, Inc.

AGENCY: Department of the Navy, DoD.

ACTION: Notice.

SUMMARY: The Department of the Navy hereby gives notice of its intent to grant to Lumedyne Technologies, Inc., a revocable, nonassignable, partially exclusive license in the United States to practice the Government-Owned inventions described in Navy Case No. 100910: Harvesting Rotational Energy Using Linear-Based Energy Harvesters//Navy Case No. 101501: Reconfigurable Actively Switched Flying Capacitor Array//Navy Case No. 101592: Method for Analytical Reconstruction of Digital Signals Via Stitched Polynomial Fitting//Navy Case No. 101761: Apparatus and Methods for Time Domain Measurements of Oscillation Perturbations Using Phase Shifted Virtual Intervals//Navy Case No. 101804: Light Field Imaging Assisted Inertial Mapping and Navigation//Navy Case No. 101875: Inertial Sensors Using Sliding Plane Proximity Switches.

DATES: Anyone wishing to object to the grant of this license must file written objections along with supporting evidence, if any, not later than June 14, 2013.

ADDRESSES: Written objections are to be filed with the Office of Research and Technology Applications, Space and Naval Warfare Systems Center Pacific, Code 72120, 53560 Hull St., Bldg. A33 Room 2531, San Diego, CA 92152-5001.

FOR FURTHER INFORMATION CONTACT: Brian Suh, Office of Research and Technology Applications, Space and Naval Warfare Systems Center Pacific, Code 72120, 53560 Hull St., Bldg. A33 Room 2531, San Diego, CA 92152-5001, telephone 619-553-5118, E-Mail: brian.suh@navy.mil.

(Authority: 35 U.S.C. 207, 37 CFR Part 404.)

Dated: May 22, 2013.
C.K. Chiappetta,
Lieutenant Commander, Office of the Judge Advocate General, U.S. Navy, Federal Register Liaison Officer.

[FR Doc. 2013-12820 Filed 5-29-13; 8:45 am]

BILLING CODE 3810-FF-P